ENVIRONMENTAL PROTECTION AGENCY

[FRL-7146-3]

42 U.S.C. 122(I), Proposed Administrative Agreement for Collection of CERCLA Response and Oversight Costs

AGENCY: Environmental Protection Agency (USEPA).

ACTION: Proposed CERCLA 122(h) Administrative Agreement.

SUMMARY: USEPA is proposing to execute an Administrative Agreement (Agreement) under Section 122 of CERCLA for collection of a percentage of response and oversight costs at the Chippewa Avenue Area Groundwater Contamination Superfund Site. The Respondent has agreed to pay $65,000 out of total unrecovered response and oversight costs of approximately $695,582,81, and in return will receive a covenant not to sue and contribution protection from USEPA. USEPA today is proposing to execute this Agreement because the settlement, in combination with $1,000,000 received for the Site pursuant to an April 15, 1993, settlement of a USEPA claim in the LTV Steel bankruptcy proceedings, achieves collection of approximately 63% of total Site costs.

DATES: Comments on this proposed settlement must be received on or before March 18, 2001.

ADDRESSES: Copies of the proposed settlement are available at the following address for review: (It is recommended that you telephone Fouad Dababneh at (312) 353-3944 before visiting the Region V Office). Fouad Dababneh, U.S. Environmental Protection Agency, Region V, 77 W. Jackson Boulevard, (SR-6J), Chicago, Illinois 60604-3590, (312) 353-3944.

Comments on this proposed settlement should be addressed to: (Please submit an original and three copies, if possible) Fouad Dababneh, U.S. Environmental Protection Agency, Region V, 77 W Jackson Boulevard, (SR-6J), Chicago, Illinois 60604-3590, (312) 353-3944.

FOR FURTHER INFORMATION CONTACT: Fouad Dababneh at (312) 353-3944.

SUPPLEMENTARY INFORMATION: The Chippewa Site is an approximately four square mile area centered on the intersection of Chippewa and Main streets in South Bend, Indiana. Located within the Chippewa Avenue Area Groundwater contamination Site are the Rum Village and South Well Field municipal drinking water supply wells. In 1997, the City of South Bend and the Indiana Department of Environmental Management (IDEM) requested EPA assistance in investigating dissolved solvents contamination in the South and Rum Village well fields. Accordingly, in response to the release or threatened release of hazardous substances at or from the Site, EPA undertook response actions at the Site pursuant to Section 104 of CERCLA, 42 U.S.C. 9604.

In October 1997, Region 5 initiated a groundwater investigation to identify the types and concentrations of groundwater contaminants in the vicinity of the South Well Field. Data from the groundwater investigation was intended to be used in the design of an interim treatment system for the South Well Field. In 1998, however, IDEM entered into an agreement with certain parties, including The Toro Corporation, for installation of an air stripper treatment system for the two well fields. The air stripper system has since been installed. As a result, Region 5 does not expect to incur additional costs for the Site.

As a part of an April 15, 1993, bankruptcy settlement with LTV Steel, AM General (a subsidiary of LTV Steel) agreed to pay $1,000,000 into the Superfund in exchange for the United States' agreement not to object to AM General's liquidation plan on the basis that the plan failed to provide for remediation of the AM General facility in South Bend, Indiana. The AM General facility is within the Chippewa Avenue Area Groundwater Contamination Site and so EPA placed the LTV Steel bankruptcy funds into a special account for this site.

Total EPA costs through June 30, 2001 are $1,695,582.81. Of that amount, $1,000,000 has been offset against a special account for the Site leaving a balance of $695,582.81.

A 30-day period, beginning on the date of publication, is open pursuant to section 122(I) of CERCLA for comments on the proposed Administrative Agreement. Comments should be sent to Fouad Dababneh (SR-6J), U.S. Environmental Protection Agency, Region V, 77 W. Jackson Boulevard, Chicago, Illinois 60604-3590.

William E. Muno,
Director, Superfund Division.

[FR Doc. 02-3768 Filed 2-14-02; 8:45 am]

BILLING CODE 6560-50-M